DEPARTMENT OF AGRICULTURE

Submission for OMB Review; Comment Request

December 22, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect is received within 30 days of this notification. Copies of the submission(s) may be obtained by calling (202) 720-6746.

An Agency may not conduct or sponsor a collection of information unless the collection of information displays a currently valid OMB control number and the agency informs potential persons who are to respond to the collection of information that such persons are not required to respond to the collection of information unless it displays a currently valid OMB control number.

Cooperative State Research, Education, and Extension Service

Title: Grant Application Forms for Higher Education Programs.

OMB Control Number: 0524-0030.

Summary of Collection: The Cooperative State Research, Education, and Extension Service (CSREES), Science and Education Resources Development (SERD) division, though its Higher Education Program (HEP) office, administers several competitive peer-reviewed research and teaching programs under which grants of a high-priority nature are awarded. These programs are authorized pursuant to the authorities contained in the National Agricultural Research, Extension, and Teaching Policy Act of 1977, as amended (7 U.S.C. 3101), section 1417 (b)(1) for the Challenge Grants Program (7 U.S.C. 3152), section 1417(b)(4) for the 1890 Institution Capacity Building Grants Program (7 U.S.C. 3152), section 1455 for the Hispanic-Serving Institutions Education Grants Program (7 U.S.C. 301 et seq.) for the Tribal Colleges Education Equity Grants Program. Before grants can be awarded, certain information is required from applicant as part of the overall package. CSREES will collect the information using several forms.

Need and Use of the Information: CSREES will collect information to evaluate proposals. The information collected will reduce the potential for errors or omissions of important data essential in the proposal review and award process.

Description of Respondents: Not-for-profit institutions; State, Local, or Tribal Government.

Number of Respondents: 450.

Frequency of Responses: Recordkeeping; Reporting: On occasion.

Total Burden Hours: 5,376.

Cooperative State Research, Education, and Extension Service

Title: Application Kit for Research and Extension Programs.

OMB Control Number: 0524-NEW.

Summary of Collection: The United States Department of Agriculture (USDA), Cooperative State Research, Education, and Extension Service (CSREES) administers several competitive, peer-reviewed research and extension programs, under which awards of a high-priority nature are made. These programs are authorized pursuant to the authorities contained in the National Agricultural Research, Extension, and Teaching Policy Act of 1977, as amended (7 U.S.C. 3101), the Smith-Lever Act, and a variety of other legislative authorities. Before grants can be awarded, certain information is required from applicants as part of an overall package. Because the proposals submitted are competitive in nature and necessitate review by peer panelists, it is particularly important that applicants provide the information in a standardized fashion to ensure equitable treatment for all. CSREES will collect information using forms CSREES 2002, 2003, 2004, 2005, 2006, 2007, and 2008.

Need and Use of the Information: CSREES will collect the following information: Program Summary and Narrative, Credentials, Budget, Identification of Conflicts of Interest, and Collect of Environmental Impact Information. The information will reduce the potential for errors or omissions of important data essential in the proposal review and award process. The information will be used to respond to inquiries from Congress, other governmental agencies, and the grantee community.

Description of Respondents: Not-for-profit institutions; Business or other for-profit; Individuals or household; Federal Government; State, Local or Tribal Government.

Number of Respondents: 8,900.

Frequency of Responses: Reporting: Annually.

Total Burden Hours: 144,700.

Rural Housing Service

Title: 7 CFR 1927-B, “Real Estate Title Clearance and Loan Closing”.

OMB Control Number: 0575-0147.

Summary of Collection: Rural Development and the Farm Service Agency are the credit agencies for the Department of Agriculture. They offer a supervised credit program to build family farms, modest housing, sanitary water and sewer systems, essential community facilities, businesses and industries in rural areas. Section 501 of Title V of the Housing Act of 1949, as amended, authorizes the Secretary of Agriculture to extend financial assistance to construct, improve, alter, repair, replace or rehabilitate dwellings, farm buildings and or related facilities to provide decent, safe, and sanitary living conditions and adequate farm buildings and other structures in rural areas. Title clearance is required to assure the agency(s) that the loan is legally secured and has the required lien priority.

Need and Use of the Information: Forms and/or guidelines are provided to assist in the collection and submission of information. The agency personnel use the required information to verify that the required lien position has been obtained. The information is collected at the field office responsible for processing a loan application through loan closing and is also used to insure the program is administered in a manner consistent with legislative and administrative requirements. If the information were not collected, the agency would be unable to determine if the loan is adequately and legally secured.

Description of Respondents: Individuals or households; Business or other for-profit; Not-for-profit institutions; Farms.

Number of Respondents: 32,000.

Frequency of Responses: Reporting: On occasion.

Total Burden Hours: 41,296.

Food and Nutrition Service

Title: Evaluation of the School Breakfast Pilot Project.

OMB Control Number: 0584-NEW.

Summary of Collection: Section 109(b) of the William F. Goodling Child Nutrition Act of 1998 (Pub. L. 105-336) amended Section 18 of the Richard B. Russell National School Lunch Act (42 U.S.C. 1769) to authorize a pilot study that provides free school breakfast to all students regardless of family income in up to six school districts. The evaluation will rigorously assess the impact of this universal-free school breakfast program on program participation and a board range of student outcomes, including academic achievement, school attendance and tardiness, classroom behavior and attentiveness, and dietary status.

Need and Use of the Information: The Food and Nutrition Service (FNS) will collect information from school district personnel to examine how school districts and schools administer the universal-free breakfast program and the impact it has on their costs and administrative duties. FNS will also collect information from students, parents, teachers, and school records to determine effects on students.

Description of Respondents: Not-for-profit institutions; Individual or households.

Number of Respondents: 9,792.

Frequency of Responses: Reporting: On occasion.

Total Burden Hours: 7,817.

Sondra Blakey,
Departmental Clearance Officer.

[FR Doc. 00-33137 Filed 12-27-00; 8:45 am]

BILLING CODE 3410-01-M